FEDERAL ELECTION COMMISSION

Sunshine Act Notices

AGENCY: Federal Election Commission.

Date and Time: Tuesday, July 28, 2009, 10 a.m.

Place: 999 E Street, NW., Washington, DC (Ninth Floor).

Status: This Meeting Will be Open to the Public.

Items to be Discussed:

Correction and approval of minutes.

Draft Advisory Opinion 2009-13: The Black Rock Group, by William J. McGinley, Esq.

Draft Advisory Opinion 2009-14: Mercedes-Benz USA LLC and Sterling Truck Corporation, by Jan Baran, Esq., and Caleb Burns, Esq.

Draft Advisory Opinion 2009-15: Bill White for Texas, by Barry Hunsaker, Treasurer.

Draft Advisory Opinion 2009-16: Libertarian Party of Ohio, by Michael Johnston, Treasurer.

Draft Advisory Opinion 2009-17: Romney for President, Inc., by Benjamin L. Ginsberg, Esq., and Glenn Willard, Esq.

Draft Advisory Opinion 2009-18: Penske Truck Leasing Co., L.P., Penske Truck Leasing Corporation, and Penske Truck Leasing Co., L.P. Political Action Committee, by Carol A. Laham, Esq. and D. Mark Renaud, Esq.

Proposed Rule of Agency Procedures: Notice to Named Respondents of Additional Material Facts or Additional Potential Violations.

Proposed Rule of Agency Procedures: Notice to Potential Respondents in Enforcement Matters.

Proposed Rule of Agency Procedures: Modification of Procedural Rules for Probable Cause Hearings.

Management and Administrative Matters:

Date and Time: Tuesday, July 28, 2009, at the conclusion of the open meeting.

Place: 999 E Street, NW., Washington, DC (Ninth Floor).

Status: This Meeting will be Closed to the Public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date and Time: Wednesday, July 29, 2009, at 10 a.m.

Place: 999 E Street, NW., Washington, DC (Ninth Floor).

Status: This Hearing Will be Open to the Public.

Matter Before the Commission: Web site and Internet communications improvement initiative.

Federal Election Commission,

Sunshine Act Notices for

Meetings of July 28 and 29, 2009.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Darlene Harris,
Deputy Secretary of the Commission.

[FR Doc. E9-17864 Filed 7-27-09; 8:45 am]

BILLING CODE 6715-01-M